DEPARTMENT OF HOUSING AND URBAN DEVELOPMENT

[Docket No. FR-7039-N-01]

60-Day Notice of Proposed Information Collection: Section 3 Reporting

AGENCY: Office of Field Policy and Management, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 10, 2021.

ADDRESSES: Interested persons are invited to submit comments regarding this proposal. Comments should refer to the proposal by name and/or OMB Control Number and should be sent to: Anna P. Guido, Reports Management Officer, QDAM, Department of Housing and Urban Development, 451 7th Street, SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: Section 3 Reporting.

OMB Approval Number: 2501-New.

Type of Request (i.e. new, revision or extension of currently approved collection): New.

Form Number: HUD Form 60002-A, HUD Form XXXX Opportunity Portal, HUD Form XXXX Business Registry.

Description of the need for the information and proposed use: This collection is to reflect changes to the Section 3 regulation, published in the Federal Register 9/29/2020 (https://www.federalregister.gov/documents/2020/09/29/2020-19185/enhancing-and-streamlining-the-implementation-of-section-3-requirements-for-creating-economic). The rule at 24 CFR part 75 is effective November 30th, 2020 and replaces the regulations found at 24 CFR part 135.

Form 60002A: This form is used to collect information from recipients of HUD financial assistance (e.g., public housing agencies, municipalities and property owners) to report the amount of labor hours provided to low- and very-low income individuals that have been generated from HUD financial assistance annually on the benchmarks (https://www.federalregister.gov/documents/2020/09/29/2020-19183/section-3-benchmarks-for-creating-economic-opportunities-for-low--and-very-low-income-persons-and#:~:text=HUD%20defines%20a%20Section%203,very%20low%Dincome%20persons%3B%20or) required to achieve compliance with Section 3.

Opportunity Portal: The Opportunity Portal is designed to help HUD recipients and Section 3 business concerns meet their Section 3 obligations for employment of low- and very low-income persons and provide other economic opportunities. The site is to be used by eligible Section 3 Workers and contractors. Section 3 Workers may use the site to search for jobs and post their profile/employment history for companies to search. Employers may use the site for posting job/contract opportunities or search for Section 3 workers to fill positions.

Business Registry: The Business Registry is a listing of firms that have self-certified that they meet the regulatory definition of a Section 3 business concern and are included in a searchable online database that can be used by agencies that receive HUD funds, developers, contractors, and others to facilitate the award of certain HUD-funded contracts.

Respondents (i.e. affected public): HUD recipients of public housing financial assistance, certain HUD recipients of housing and community development financial assistance, certain HUD grantees, public housing residents and other eligible Section 3 workers.

Estimated Number of Respondents:

Information collection | Number of respondents | Frequency of response | Responses per annum | Burden hour per response | Annual burden hours | Hourly cost per response | Annual cost
HUD Form 60002-A | 4,283.00 | 1.00 | 4,283.00 | 3.00 | 12,849.00 | $58.13 | $746,912.37
Opportunity Portal | 350.00 | 1.00 | 350.00 | 1.00 | 350.00 | 7.25 | 2,537.50
Business Registry | 6,000.00 | 1.00 | 6,000.00 | 1.00 | 6,000.00 | 45.80 | 274,800.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

C. Authority

Section 3507 of the Paperwork Reduction Act of 1995, 44 U.S.C. Chapter 35.

Timothy Smyth,
Director, Office of Field Policy and Management.

[FR Doc. 2021-05083 Filed 3-10-21; 8:45 am]

BILLING CODE 4210-67-P